NATIONAL CREDIT UNION ADMINISTRATION

Sunshine Act; Notice of Agency Meeting

TIME AND DATE: 12:00 p.m., Friday, February 8, 2013.

PLACE: Board Room, 7th Floor, Room 7047, 1775 Duke Street, Alexandria, VA 22314-3428.

STATUS: Closed

MATTERS TO BE CONSIDERED: 1. Consideration of Supervisory Activities. Closed pursuant to Exemptions (5), (7), (8) and (9)(i)(B) and (ii).

FOR FURTHER INFORMATION CONTACT: Mary Rupp, Secretary of the Board, Telephone: 703-518-6304.

Mary Rupp,
Board Secretary.

[FR Doc. 2013-03207 Filed 2-7-13; 4:15 pm]

BILLING CODE 7535-01-P